DEPARTMENT OF COMMERCE

International Trade Administration

[C-580-910, C-821-827]

Seamless Carbon and Alloy Steel Standard, Line, and Pressure Pipe From the Republic of Korea and the Russian Federation: Postponement of Preliminary Determinations in the Countervailing Duty Investigations

AGENCY: Enforcement and Compliance, International Trade Administration, Department of Commerce.

DATES: Applicable September 2, 2020.

FOR FURTHER INFORMATION CONTACT: Caitlin Monks at (202) 482-2670 (the Russian Federation (Russia)); Moses Song or Natasia Harrison at (202) 482-7885 or (202) 482-1240, respectively (the Republic of Korea (Korea)), AD/CVD Operations, Enforcement and Compliance, International Trade Administration, U.S. Department of Commerce, 1401 Constitution Avenue NW, Washington, DC 20230.

SUPPLEMENTARY INFORMATION:

Background

On July 28, 2020, the Department of Commerce (Commerce) initiated countervailing duty (CVD) investigations of imports of seamless carbon and alloy steel standard, line, and pressure pipe (seamless pipe) from Russia and Korea.¹ Currently, the preliminary determinations are due no later than October 1, 2020.

¹ See Seamless Carbon and Alloy Steel Standard, Line, and Pressure Pipe from the Republic of Korea and the Russian Federation: Initiation of Countervailing Duty Investigations, 85 FR 47170 (August 4, 2020) (Initiation Notice).

Postponement of Preliminary Determinations

Section 703(b)(1) of the Tariff Act of 1930, as amended (the Act), requires the Department to issue the preliminary determination in a countervailing duty investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 18, 2020, the petitioner submitted a timely request that Commerce postpone the preliminary CVD determinations.² According to the petitioner, additional time is necessary because the current preliminary determination is scheduled “just 10 days after the current deadline for complete initial responses to Sections II and III of Commerce's questionnaire” and “to allow Commerce to fully analyze respondents' questionnaire responses, and any other filings such as new subsidy allegations and benchmark factual information, prior to the preliminary determination.” ³

² The petitioner is Vallourec Star, LP (petitioner). See Petitioner's Letter, “Seamless Carbon and Alloy Steel Standard, Line, and Pressure Pipe from Korea and Russia: Request to Extend Preliminary Determinations,” dated August 18, 2020.

³ Id.

In accordance with 19 CFR 351.205(e), the petitioner has stated the reasons for requesting a postponement of the preliminary determination, and Commerce finds no compelling reason to deny the request. Therefore, in accordance with section 703(c)(1)(A) of the Act, Commerce is postponing the deadline for the preliminary determinations to no later than 130 days after the date on which these investigations were initiated, i.e., December 7, 2020.⁴ Pursuant to section 705(a)(1) of the Act and 19 CFR 351.210(b)(1), the deadline for the final determinations of these investigations will continue to be 75 days after the date of the preliminary determinations.

⁴ Postponing the preliminary determination to 130 days after initiation would place the deadline on Saturday, December 5, 2020. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: August 27, 2020.
Jeffrey I. Kessler,
Assistant Secretary for Enforcement and Compliance.

[FR Doc. 2020-19395 Filed 9-1-20; 8:45 am]

BILLING CODE 3510-DS-P